DEPARTMENT OF STATE

[Public Notice 4454]

Culturally Significant Objects Imported for Exhibition Determinations: Cultural Artifacts From Iraq

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the historic and modern books, documents, parchment scrolls, and other items discovered in early May 2003 in the basement of the Mukhabahrat in Baghdad, most of which pertain to the Jewish community, imported from abroad for temporary exhibition in the United States, including restoration necessary thereto, are of cultural significance. The objects are imported pursuant to an agreement with the foreign owner or custodian. I also determine that their temporary exhibition or display by the National Archives and Records Administration, or another educational or cultural institution, is in the national interest. Public Notice of these Determinations is ordered to be published in the Federal Register.

FOR FURTHER INFORMATION CONTACT: For further information, including available descriptive materials, contact Lorie J. Nierenberg, Assistant Legal Adviser for Public Diplomacy and Public Affairs, Office of the Legal Adviser, U.S. Department of State (telephone: (202) 619-5078). The address is U.S. Department of State, SA-44, 301 4th Street, SW., Room 700, Washington, DC 20547-0001.

Dated: August 18, 2003
Patricia S. Harrison,
Assistant Secretary for Educational and Cultural Affairs, Department of State.

[FR Doc. 03-21573 Filed 8-20-03; 8:45 am]

BILLING CODE 4710-08-P